LEGAL SERVICES CORPORATION

Sunshine Act Meetings

DATE AND TIME: The Legal Services Corporation's Board of Directors will meet telephonically on November 22, 2016. The meeting will commence at 2:00 p.m., EST, and will continue until the conclusion of the Committee's agenda. Immediately following the Board of Directors telephonic meeting, the Operations and Regulations Committee will hold a telephonic meeting.

LOCATION: John N. Erlenborn Conference Room, Legal Services Corporation Headquarters, 3333 K Street NW., Washington, DC 20007.

PUBLIC OBSERVATION: Members of the public who are unable to attend in person but wish to listen to the public proceedings may do so by following the telephone call-in directions provided below.

CALL-IN DIRECTIONS FOR OPEN SESSIONS:

• Call toll-free number: 1-866-451-4981;

• When prompted, enter the following numeric pass code: 5907707348

• When connected to the call, please immediately “MUTE” your telephone.

Members of the public are asked to keep their telephones muted to eliminate background noises. To avoid disrupting the meeting, please refrain from placing the call on hold if doing so will trigger recorded music or other sound. From time to time, the Chair may solicit comments from the public.

STATUS OF MEETINGS: Open.

MATTERS TO BE CONSIDERED:

Board of Directors

1. Approval of agenda

2. Consider and act on the Board of Directors' transmittal to accompany the Inspector General's Semiannual Report to Congress for the period of April 1, 2016 through October 31, 2016

3. Public comment

4. Consider and act on other business

5. Consider and act on adjournment of meeting

Operations and Regulations Committee—briefing materials will be posted at http://www.lsc.gov/about-lsc/board/board-meetings.

1. Approval of agenda

2. Briefing and discussion on Final Rule of Proposed Rulemaking for 45 CFR part 1627—Subgrants with consolidation of transfer provisions from 45 CFR part 1610.7

3. Public comment

4. Consider and act on other business

5. Consider and act on adjournment of meeting

CONTACT PERSON FOR INFORMATION: Katherine Ward, Executive Assistant to the Vice President & General Counsel, at (202) 295-1500. Questions may be sent by electronic mail to FR_NOTICE_QUESTIONS@lsc.gov.

ACCESSIBILITY: LSC complies with the Americans with Disabilities Act and Section 504 of the 1973 Rehabilitation Act. Upon request, meeting notices and materials will be made available in alternative formats to accommodate individuals with disabilities. Individuals needing other accommodations due to disability in order to attend the meeting in person or telephonically should contact Katherine Ward, at (202) 295-1500 or FR_NOTICE_QUESTIONS@lsc.gov, at least 2 business days in advance of the meeting. If a request is made without advance notice, LSC will make every effort to accommodate the request but cannot guarantee that all requests can be fulfilled.

Dated: November 14, 2016.
Katherine Ward,
Executive Assistant to the Vice President for Legal Affairs and General Counsel.

[FR Doc. 2016-27659 Filed 11-14-16; 4:15 pm]

BILLING CODE 7050-01-P